DEPARTMENT OF JUSTICE

Notice of Lodging of Settlement Agreement Under the Comprehensive Environmental Response, Compensation, and Liability Act

Notice is hereby given that on July 14, 2010, a proposed Settlement Agreement in the bankruptcy matter, Old Carco LLC (f/k/a Chrysler LLC), et al., Jointly Administered Case No. 09-50002 (AJG), was lodged with the United States Bankruptcy Court for the Southern District of New York. The Settlement Agreement resolves claims of the Environmental Protection Agency (“EPA”) against the Old Carco Liquidation Trust (“Old Carco”), as successor in interest to Old Carco LLC (formerly known as Chrysler LLC), for response costs and civil penalties under the Comprehensive Environmental Response, Compensation, and Liability Act (“CERCLA”), 42 U.S.C. 9601-9675, with respect to Behr Dayton Thermal Systems VOC Plume Superfund Site (“Behr Dayton”).

Under the Settlement Agreement, EPA will receive an allowed general unsecured claim with respect to response costs incurred by the EPA with respect to Behr Dayton in the amount of $26,000,000. The EPA will receive an allowed general unsecured claim with respect to civil penalties in the amount of $5,000,000. Accordingly, the total amount of the EPA's allowed general unsecured claim will be $31,000,000. The allowed general unsecured claim with respect to civil penalties, however, shall be subordinated under the plan of confirmation to other allowed general unsecured claims.

Upon the effective date of the settlement agreement, the United States will also receive a cash payment of $500,000, which will be applied to Behr Dayton. In the event that certain funds reserved for funding environmental cleanup at sites owned by the Liquidation Trust are not needed for their intended purpose because such owned property is transferred or sold to a third party purchaser, the United States would receive additional cash payments in the maximum aggregate amount of $1,500,000 million (which, together with the $500,000 in cash that the United States would receive on the effective date of the settlement agreement, would total $2,000,000), which amount(s) will also be applied to Behr Dayton.

The Department of Justice will receive, for a period of thirty days from the date of this publication, comments relating to the Settlement Agreement. Comments should be addressed to the Assistant Attorney General, Environment and Natural Resources Division, and either e-mailed to pubcomment-ees.enrd@usdoj.gov or mailed to P.O. Box 7611, U.S. Department of Justice, Washington, DC 20044-7611, and should refer to In re Old Carco LLC, et al., D.J. Ref. 90-11-3-09743. Commenters may request an opportunity for a public meeting in the affected area, in accordance with Section 7003(d) of RCRA, 42 U.S.C. 6973(d).

The Settlement Agreement may be examined at the Office of the United States Attorney, 86 Chambers Street, 3rd Floor, New York, New York 10007, and at the U.S. Environmental Protection Agency, Ariel Rios Building, 1200 Pennsylvania Avenue, NW., Washington, DC 20460. During the public comment period, the Settlement Agreement may also be examined on the following Department of Justice Web site, http://www.usdoj.gov/enrd/Consent_Decrees.html. Copies of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury or, if by e-mail or fax, please forward a check in that amount to the Consent Decree Library at the stated address.

Maureen Katz,
Assistant Section Chief, Environmental Enforcement Section, Environment and Natural Resources Division.

[FR Doc. 2010-18065 Filed 7-21-10; 8:45 am]

BILLING CODE 4410-15-P